DEPARTMENT OF HEALTH AND HUMAN SERVICES

Notice of Availability of Federal Matching Shares for Medicaid and Foster Care and Adoption Assistance

AGENCY: Office of the Secretary, Department of Heath and Human Services.

ACTION: Notice.

SUMMARY: The Federal Medical Assistance Percentages (FMAPs) for the first two quarters of Fiscal Year 2009 have been recalculated pursuant to the American Recovery and Reinvestment Act (ARRA). These percentages will be effective from October 1, 2008 through March 31, 2009. This notice announces the calculated FMAPs that the U.S. Department of Health and Human Services (HHS) will use in determining the amount of Federal matching for State medical assistance under Title XIX and Title IV-E. The table gives figures for each of the 50 States and the District of Columbia. Adjusted figures are not shown for Puerto Rico, the Virgin Islands, Guam, American Samoa, and the Commonwealth of the Northern Mariana Islands since territories have a choice between two methodologies to determine their recalculated figures. Programs under title XIX of the Act exist in each jurisdiction. The percentages in this notice only apply to State expenditures for most medical services and medical insurance services. The statute provides separately for Federal matching of administrative costs.

Title V of the ARRA provides for temporary increases in the FMAPs for fiscal relief to States and to protect and maintain State Medicaid programs in a period of economic downturn. The recession adjustment period is defined as the period beginning on October 1, 2008 and ending on December 31, 2010.

Section 5001 of the ARRA specifies that the FMAP shall be temporarily increased for the following: (1) A maintenance of FMAP for fiscal year 2009, fiscal year 2010, and first quarter of fiscal year 2011, determined by substituting the greater of such percentage for the State compared to the FMAP calculated for the prior fiscal year; (2) the application of an increase in each state's FMAP of 6.2 percentage points; and (3) an additional percent increase based on the state's increase in unemployment. Each state's FMAP will be recalculated each fiscal quarter beginning October 2008.

Payments eligible for FMAP under title XIX, except disproportionate share hospital and enhanced FMAP payments, shall receive the 6.2 percentage point increase and any unemployment adjustment. Payments under part E of title IV shall only receive the 6.2 percentage point increase.

The unemployment increase percentage for a calendar quarter is equal to the number of percentage points (if any) by which the average monthly unemployment rate for the State in the most recent previous 3-consecutive-month period for which data are available exceeds the lowest average monthly unemployment rate for the State for any 3-consecutive-month period beginning on or after January 1, 2006. A State qualifies for additional relief based on an increase in unemployment if that State's unemployment increase percentage is at least 1.5 percentage points.

In addition to the general 6.2 percentage point increase in FMAP, the FMAP for each qualifying State is increased by the number of percentage points equal to the product of the State percentage calculated from half the 6.2 percentage point increase in FMAP and the applicable percent determined from the State unemployment increase percentage for the quarter. The applicable percent is (1) 5.5 percent if the State unemployment increase percentage is at least 1.5 percentage points but less than 2.5 percentage points, (2) 8.5 percent if the State unemployment increase percentage is at least 2.5 percentage points but less than 3.5 percentage points, and (3) 11.5 percent if the State unemployment increase percentage is at least 3.5 percentage points.

If the applicable percent applied to a State is less than the applicable percent applied for the preceding quarter, then the higher applicable percent shall continue in effect for any calendar quarter beginning on January 1, 2009 and ending before July 1, 2010.

Territories (Puerto Rico, the Virgin Islands, Guam, the Northern Mariana Islands, and America Samoa) can make a one-time election between (1) a 30 percent increase in their cap on Medicaid payments (as determined under subsections (f) and (g) of section 1108 of the Social Security Act), or (2) apply the increase of 6.2 percentage points in the FMAP plus a 15 percent increase in cap on Medicaid payments.

In no case shall an increase in FMAP under this section result in an FMAP that exceeds 100 percent.

DATES: Effective Dates: The percentages listed will be effective for each of the 2 quarter-year periods in the period beginning October 1, 2008 and ending March 15, 2009.

FOR FURTHER INFORMATION CONTACT: Thomas Musco or Rose Chu, Office of Health Policy, Office of the Assistant Secretary for Planning and Evaluation, Room 447D—Hubert H. Humphrey Building, 200 Independence Avenue, SW., Washington, DC 20201, (202) 690-6870.

(Catalog of Federal Domestic Assistance Program Nos. 93.558: TANF Contingency Funds; 93.563: Child Support Enforcement; 93-596: Child Care Mandatory and Matching Funds of the Child Care and Development Fund; 93.658: 93.659: Adoption Assistance; 93.769: Ticket-to-Work and Work Incentives Improvement Act (TWWIIA) Demonstrations to Maintain Independence and Employment)

Dated: March 26, 2009.
Charles E. Johnson,
Acting Secretary.

ARRA Adjustments to FMAP
State | FY08 original FMAP | FY09 original FMAP | Hold harmless FY 09 | Hold harmless FY09 FMAP with 6.2% pt increase | 3-Month average unemployment rate ending Dec 2008 | Minimum unemployment | Unemployment difference | Unemployment tier | Unemployment adjustment | 1st Quarter FY09 FMAP adjust (incl HH-6.2- unemployment) | 2nd Quarter FY09 FMAP adjust (incl HH-6.2- unemployment)
Alabama | 67.62 | 67.98 | 67.98 | 74.18 | 6.1 | 3.4 | 2.7 | 8.5 | 2.46 | 76.64 | 76.64
Alaska | 52.48 | 50.53 | 52.48 | 58.68 | 7.3 | 6.0 | 1.3 | 0 | 0.00 | 58.68 | 58.68
Arizona | 66.20 | 65.77 | 66.20 | 72.40 | 6.5 | 3.7 | 2.8 | 8.5 | 2.61 | 75.01 | 75.01
Arkansas | 72.94 | 72.81 | 72.94 | 79.14 | 5.7 | 4.7 | 1.0 | 0 | 0.00 | 79.14 | 79.14
California | 50.00 | 50.00 | 50.00 | 56.20 | 8.7 | 4.8 | 3.9 | 11.5 | 5.39 | 61.59 | 61.59
Colorado | 50.00 | 50.00 | 50.00 | 56.20 | 5.9 | 3.6 | 2.3 | 5.5 | 2.58 | 58.78 | 58.78
Connecticut | 50.00 | 50.00 | 50.00 | 56.20 | 6.8 | 4.2 | 2.6 | 8.5 | 3.99 | 60.19 | 60.19
Delaware | 50.00 | 50.00 | 50.00 | 56.20 | 5.7 | 3.2 | 2.5 | 8.5 | 3.99 | 60.19 | 60.19
District of Columbia | 70.00 | 70.00 | 70.00 | 76.20 | 8.0 | 5.7 | 2.3 | 5.5 | 1.48 | 77.68 | 77.68
Florida | 56.83 | 55.40 | 56.83 | 63.03 | 7.5 | 3.3 | 4.2 | 11.5 | 4.61 | 67.64 | 67.64
Georgia | 63.10 | 64.49 | 64.49 | 70.69 | 7.5 | 4.3 | 3.2 | 8.5 | 2.75 | 73.44 | 73.44
Hawaii | 56.50 | 55.11 | 56.50 | 62.70 | 5.0 | 2.3 | 2.7 | 8.5 | 3.43 | 66.13 | 66.13
Idaho | 69.87 | 69.77 | 69.87 | 76.07 | 5.8 | 2.7 | 3.1 | 8.5 | 2.30 | 78.37 | 78.37
Illinois | 50.00 | 50.32 | 50.32 | 56.52 | 7.4 | 4.3 | 3.1 | 8.5 | 3.96 | 60.48 | 60.48
Indiana | 62.69 | 64.26 | 64.26 | 70.46 | 7.3 | 4.4 | 2.9 | 8.5 | 2.77 | 73.23 | 73.23
Iowa | 61.73 | 62.62 | 62.62 | 68.82 | 4.4 | 3.5 | 0.9 | 0 | 0.00 | 68.82 | 68.82
Kansas | 59.43 | 60.08 | 60.08 | 66.28 | 5.0 | 3.9 | 1.1 | 0 | 0.00 | 66.28 | 66.28
Kentucky | 69.78 | 70.13 | 70.13 | 76.33 | 7.2 | 5.2 | 2.0 | 5.5 | 1.47 | 77.80 | 77.80
Louisiana | 72.47 | 71.31 | 72.47 | 78.67 | 5.6 | 3.5 | 2.1 | 5.5 | 1.34 | 80.01 | 80.01
Maine | 63.31 | 64.41 | 64.41 | 70.61 | 6.3 | 4.4 | 1.9 | 5.5 | 1.79 | 72.40 | 72.40
Maryland | 50.00 | 50.00 | 50.00 | 56.20 | 5.3 | 3.5 | 1.8 | 5.5 | 2.58 | 58.78 | 58.78
Massachusetts | 50.00 | 50.00 | 50.00 | 56.20 | 6.1 | 4.3 | 1.8 | 5.5 | 2.58 | 58.78 | 58.78
Michigan | 58.10 | 60.27 | 60.27 | 66.47 | 9.8 | 6.7 | 3.1 | 8.5 | 3.11 | 69.58 | 69.58
Minnesota | 50.00 | 50.00 | 50.00 | 56.20 | 6.4 | 3.8 | 2.6 | 8.5 | 3.99 | 60.19 | 60.19
Mississippi | 76.29 | 75.84 | 76.29 | 82.49 | 7.4 | 5.9 | 1.5 | 5.5 | 1.13 | 83.62 | 83.62
Missouri | 62.42 | 63.19 | 63.19 | 69.39 | 6.8 | 4.6 | 2.2 | 5.5 | 1.85 | 71.24 | 71.24
Montana | 68.53 | 68.04 | 68.53 | 74.73 | 5.0 | 3.1 | 1.9 | 5.5 | 1.56 | 76.29 | 76.29
Nebraska | 58.02 | 59.54 | 59.54 | 65.74 | 3.8 | 2.8 | 1.0 | 0 | 0.00 | 65.74 | 65.74
Nevada | 52.64 | 50.00 | 52.64 | 58.84 | 8.3 | 4.1 | 4.2 | 11.5 | 5.09 | 63.93 | 63.93
New Hampshire | 50.00 | 50.00 | 50.00 | 56.20 | 4.3 | 3.4 | 0.9 | 0 | 0.00 | 56.20 | 56.20
New Jersey | 50.00 | 50.00 | 50.00 | 56.20 | 6.4 | 4.2 | 2.2 | 5.5 | 2.58 | 58.78 | 58.78
New Mexico | 71.04 | 70.88 | 71.04 | 77.24 | 4.5 | 3.2 | 1.3 | 0 | 0.00 | 77.24 | 77.24
New York | 50.00 | 50.00 | 50.00 | 56.20 | 6.2 | 4.3 | 1.9 | 5.5 | 2.58 | 58.78 | 58.78
North Carolina | 64.05 | 64.60 | 64.60 | 70.80 | 7.9 | 4.5 | 3.4 | 8.5 | 2.75 | 73.55 | 73.55
North Dakota | 63.75 | 63.15 | 63.75 | 69.95 | 3.4 | 3.1 | 0.3 | 0 | 0.00 | 69.95 | 69.95
Ohio | 60.79 | 62.14 | 62.14 | 68.34 | 7.4 | 5.3 | 2.1 | 5.5 | 1.91 | 70.25 | 70.25
Oklahoma | 67.10 | 65.90 | 67.10 | 73.30 | 4.6 | 3.1 | 1.5 | 5.5 | 1.64 | 74.94 | 74.94
Oregon | 60.86 | 62.45 | 62.45 | 68.65 | 8.1 | 5 | 3.1 | 8.5 | 2.93 | 71.58 | 71.58
Pennsylvania | 54.08 | 54.52 | 54.52 | 60.72 | 6.2 | 4.3 | 1.9 | 5.5 | 2.33 | 63.05 | 63.05
Rhode Island | 52.51 | 52.59 | 52.59 | 58.79 | 9.5 | 4.9 | 4.6 | 11.5 | 5.10 | 63.89 | 63.89
South Carolina | 69.79 | 70.07 | 70.07 | 76.27 | 8.6 | 5.7 | 2.9 | 8.5 | 2.28 | 78.55 | 78.55
South Dakota | 60.03 | 62.55 | 62.55 | 68.75 | 3.5 | 2.6 | 0.9 | 0 | 0.00 | 68.75 | 68.75
Tennessee | 63.71 | 64.28 | 64.28 | 70.48 | 7.3 | 4.5 | 2.8 | 8.5 | 2.77 | 73.25 | 73.25
Texas | 60.56 | 59.44 | 60.56 | 66.76 | 5.8 | 4.2 | 1.6 | 5.5 | 2.00 | 68.76 | 68.76
Utah | 71.63 | 70.71 | 71.63 | 77.83 | 3.9 | 2.5 | 1.4 | 0 | 0.00 | 77.83 | 77.83
Vermont | 59.03 | 59.45 | 59.45 | 65.65 | 5.7 | 3.5 | 2.2 | 5.5 | 2.06 | 67.71 | 67.71
Virginia | 50.00 | 50.00 | 50.00 | 56.20 | 4.8 | 2.9 | 1.9 | 5.5 | 2.58 | 58.78 | 58.78
Washington | 51.52 | 50.94 | 51.52 | 57.72 | 6.6 | 4.4 | 2.2 | 5.5 | 2.50 | 60.22 | 60.22
West Virginia | 74.25 | 73.73 | 74.25 | 80.45 | 4.7 | 4.4 | 0.3 | 0 | 0.00 | 80.45 | 80.45
Wisconsin | 57.62 | 59.38 | 59.38 | 65.58 | 5.7 | 4.5 | 1.2 | 0 | 0.00 | 65.58 | 65.58
Wyoming | 50.00 | 50.00 | 50.00 | 56.20 | 3.3 | 2.8 | 0.5 | 0 | 0.00 | 56.20 | 56.20
Territories:
American Samoa | 50.00 | 50.00 |  |  |  |  |  |  |  |  |
Guam | 50.00 | 50.00 |  |  |  |  |  |  |  |  |
Northern Mariana Islands | 50.00 | 50.00 |  |  |  |  |  |  |  |  |
Puerto Rico | 50.00 | 50.00 |  |  |  |  |  |  |  |  |
Virgin Islands | 50.00 | 50.00 |  |  |  |  |  |  |  |  |

[FR Doc. E9-9095 Filed 4-20-09; 8:45 am]

BILLING CODE 4210-01-P